FEDERAL RESERVE SYSTEM

Agency Information Collection Activities: Proposed Collections; Comment Request

AGENCY: Board of Governors of the Federal Reserve System

SUMMARY: Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for comment on information collection proposals

The following information collections, which are being handled under this delegated authority, have received initial Board approval and are hereby published for comment. At the end of the comment period, the proposed information collections, along with an analysis of comments and recommendations received, will be submitted to the Board for final approval under OMB delegated authority. Comments are invited on the following:

a. whether the proposed collections of information are necessary for the proper performance of the Federal Reserve's functions; including whether the information has practical utility;

b. the accuracy of the Federal Reserve's estimate of the burden of the proposed information collections, including the validity of the methodology and assumptions used;

c. ways to enhance the quality, utility, and clarity of the information to be collected; and

d. ways to minimize the burden of information collections on respondents, including through the use of automated collection techniques or other forms of information technology.

DATES: Comments must be submitted on or before December 14, 2004.

ADDRESSES: You may submit comments, identified by FR 28, FR 29a, b or FR 1373a,b by any of the following methods:

• Agency Web Site: http://www.federalreserve.gov. Follow the instructions for submitting comments at http://www.federalreserve.gov/generalinfo/foia/ProposedRegs.cfm.

• Federal eRulemaking Portal: http://www.regulations.gov. Follow the instructions for submitting comments.

• E-mail: regs.comments@federalreserve.gov. Include docket number in the subject line of the message.

• FAX: 202/452-3819 or 202/452-3102.

• Mail: Jennifer J. Johnson, Secretary, Board of Governors of the Federal Reserve System, 20th Street and Constitution Avenue, N.W., Washington, DC 20551.

All public comments are available from the Board's web site at www.federalreserve.gov/generalinfo/foia/ProposedRegs.cfm as submitted, except as necessary for technical reasons. Accordingly, your comments will not be edited to remove any identifying or contact information. Public comments may also be viewed electronically or in paper in Room MP-500 of the Board's Martin Building (20th and C Streets, N.W.) between 9:00 a.m. and 5:00 p.m. on weekdays.

FOR FURTHER INFORMATION CONTACT: A copy of the proposed forms and instructions, the Paperwork Reduction Act Submission (OMB 83-I), supporting statements, and other documents that will be placed into OMB's public docket files once approved may be requested from the agency clearance officer, whose name appears below.

Cynthia Ayouch, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

Proposal to approve under OMB delegated authority the extension for three years, with revision, of the following reports:

1. Report title: Application for Employment with the Board of Governors of the Federal Reserve System

Agency form number: FR 28

OMB control number: 7100-0181

Frequency: On occasion

Reporters: Employment applicants

Annual reporting hours: 2,500 hours

Estimated average hours per response: 1 hour

Number of respondents: 2,500

General description of report: This information collection is required to obtain a benefit (sections 10(4) and 11(1) of the Federal Reserve Act (12 U.S.C. Sec. 244 and 248(1)). The Board is required to treat the information collected on the Application as confidential pursuant to the requirements of the Privacy Act (5 U.S.C. Sec. 552a). Individual respondent data are regarded as confidential under the Freedom of Information Act (5 U.S.C. Sections. 552(b)(2) and (b)(6)).

Abstract: The Application collects information to determine the qualifications, suitability, and availability of applicants for employment with the Board. The Application asks about education, training, employment, and other information covering the period since the applicant left high school.

Current Actions: The Federal Reserve proposes to revise the Application for Employment with the Board of Governors of the Federal Reserve System (FR 28) to include the applicant's email address and cell phone number. In addition, the FR 28 would be modified to inform applicants that educational claims must be from an accredited school. The Federal Reserve proposes to modify the Applicant's Voluntary Self-Identification Form (FR 28s) to be consistent with the Office of Management and Budget's (OMBs) Statistical Policy Directive No. 15, (Race and Ethnic Standards for Federal Statistics and Administrative Reporting). The Federal Reserve Board also proposes to revise the Research Assistant Candidate Survey of Interests (FR 28i), by modifying the areas of interest, changing the rating scale format, adding a section on software packages used by the candidate, and adding a line for the candidate's name.

2. Report title: Compensation and Salary Surveys

Agency form number: FR 29a, b, c

OMB control number: 7100-0290

Frequency: FR 29a, annually; FR 29b, on occasion; FR 29c, annually

Reporters: Employers considered competitors for Federal Reserve employees

Annual reporting hours: FR 29a, 150 hours; FR 29b, 50 hours

Estimated average hours per response: FR 29a, 6 hours; FR 29b, 1hour

Number of respondents: 35

General description of report: This information collection is voluntary (sections 10(4) and 11(1) of the Federal Reserve Act (12 U.S.C. 244 and 248(1)) and is given confidential treatment (5 U.S.C 552 (b)(4) and (b)(6)).

Abstract: The surveys collect information on salaries, employee compensation policies, and other employee programs from employers that are considered competitors for Federal Reserve employees. The data from the surveys primarily are used to determine the appropriate salary structure and salary adjustments for Federal Reserve employees.

Current Actions: The Federal Reserve proposes to discontinue the annual Compensation Trend Survey (FR 29c). The international consulting firm of Hay Management Consultants has conducted this survey, on behalf of the Federal Reserve, since 1991. However, since 2001, the Federal Reserve has relied on data published in other national compensation surveys. The Annual Salary Survey (FR 29a) and the ad hoc surveys related to salary and other employment issues (FR 29b), would not be revised.

3. Report title: Studies of Board Publications

Agency form number: FR 1373a,b

OMB control number: 7100-0301

Frequency: FR 1373a, two times per year; FR 1373b, eight times per year

Reporters: FR 1373a, community-based educators, key stakeholders, and other educators who have previously requested consumer education materials from the Federal Reserve; FR 1373b, current subscribers of the publications being surveyed.

Annual reporting hours: FR 1373a, 300 hours; FR 1373b, 746 hours.

Estimated average hours per response: FR 1373a, 30 minutes; FR 1373b, 15 minutes.

Number of respondents: FR 1373a, 400; FR 1373b, 517.

General description of report: This information collection is voluntary. The FR 1373a study is authorized pursuant to the Federal Trade Commission Improvement Act (15 U.S.C. § 57(a)); the FR 1373 b study is authorized pursuant to 12 U.S.C. § 248(i). The specific information collected is not considered confidential.

Abstract: The FR 1373a study allows the Federal Reserve to: 1) conduct periodic reviews and evaluations of the consumer education materials, and 2) develop and evaluate consumer education materials under consideration for distribution. The FR 1373b study helps Federal Reserve evaluate other Board publications. In addition, the Federal Reserve uses the FR 1373b data to help determine if it should continue to issue certain publications and, if so, whether the public would like to see changes in the method of information delivery, frequency, content, format, or appearance.

Current Actions: The Federal Reserve proposes to revise the FR 1373a by adding focus group or guided discussions once a year with three groups of fifteen respondents. Each discussion would take an estimated ninety minutes. The goal for such focused discussions would be to identify what issues consumers want addressed and how they would like to receive this information. The Federal Reserve would work with community groups or other appropriate stakeholders to recruit small groups of consumers to serve as voluntary respondents.

Board of Governors of the Federal Reserve System, October 8, 2004.
Jennifer J. Johnson,
Secretary of the Board.

[FR Doc. 04-23132 Filed 10-14-04; 8:45 am]

BILLING CODE 6210-01-S